DEPARTMENT OF ENERGY

Federal Energy Regulatory Commission

18 CFR Parts 154, 260, and 284

[Docket Nos. RM18-11-000, RP18-415-000; Order No. 849]

Interstate and Intrastate Natural Gas Pipelines; Rate Changes Relating to Federal Income Tax Rate; American Forest & Paper Association

Correction

In rule document 2018-15786 appearing on pages 36672-36717 in the issue of July 30, 2018, make the following correction:

§ 260.402 [Corrected]

On page 36715, in § 260.402, in the second column, under Amendatory Instruction 4, in the first line, “§ 60.402” should read “§ 260.402”.

[FR Doc. C1-2018-15786 Filed 8-7-18; 8:45 am]

BILLING CODE 1301-00-D